SOCIAL SECURITY ADMINISTRATION

Modifications to the Disability Determination Procedures; Extension of Testing of Some Disability Redesign Features

AGENCY: Social Security Administration (SSA).

ACTION: Notice of the extension of tests involving modifications to the disability determination procedures.

SUMMARY: We are announcing the extension of tests involving modifications to our disability determination procedures that we are conducting under the authority of current rules codified at 20 CFR 404.906 and 416.1406. These rules provide authority to test several modifications to the disability determination procedures that we normally follow in adjudicating claims for disability insurance benefits under title II of the Social Security Act (the Act) and for supplemental security income payments based on disability under title XVI of the Act. We have decided to extend testing of the two redesign features of the disability prototype for up to 3 years in the following disability determination services (DDSs): New York, Pennsylvania, Alabama, Michigan, Louisiana, Missouri, Colorado, California (Los Angeles North and West Branches), and Alaska. We are not extending testing of these features in the New Hampshire DDS due to the publication of the final rule changes to 20 CFR 404.1527(f)(1) and 20 CFR 405.201 that take effect August 1, 2006. These rule changes are initially only in effect in the Boston Region.

DATES: We are extending our selection of cases to be included in these tests from September 30, 2006 until no later than September 30, 2009. If we decide to continue selection of cases for these tests beyond this date, we will publish another notice in the Federal Register.

FOR FURTHER INFORMATION CONTACT: Phil Landis, Office of Disability Determinations, Social Security Administration, 6401 Security Boulevard, Baltimore, Maryland 21235-6401, 410-965-5388.

SUPPLEMENTARY INFORMATION: Current regulations at 20 CFR 404.906 and 416.1406 authorize us to test, individually, or in any combination, different modifications to the disability determination procedures. We have conducted several tests under the authority of these rules, including a prototype that incorporates a number of modifications to the disability determination procedures that the DDSs use. The prototype included three redesign features, and we previously extended the tests of two of those features: the use of a single decisionmaker, in which a disability examiner may make the initial disability determination in most cases without requiring the signature of a medical consultant; and elimination of the reconsideration level of review. We are extending the testing of the two redesign features of the disability prototype.

We also have conducted another test involving the use of a single decisionmaker who may make the initial disability determination in most cases without requiring the signature of a medical consultant. We are extending the period during which we will select cases to be included in this test of the single decisionmaker feature in the following DDSs: West Virginia, Florida, Kentucky, North Carolina, Kansas, Nevada, Guam, and Washington. We are not extending this test in the Maine and Vermont DDSs due to the publication of the final rule change to 20 CFR 404.1527(f)(1). The rule change goes into effect on August 1, 2006 in the Boston Region only.

Extension of Testing of Some Disability Redesign Features

On August 30, 1999, we published in the Federal Register a notice announcing a prototype that would test a new disability claims process in 10 States, also called the prototype process (64 FR 47218). On December 23, 1999, we published a notice in the Federal Register (65 FR 72134) extending the period during which we would select cases to be included in a separate test of the single decisionmaker feature. In these notices, we stated that selection of cases was expected to be concluded on or about December 31, 2001. We also stated that, if we decided to continue the tests beyond that date, we would publish another notice in the Federal Register. We subsequently published notices in the Federal Register extending selection of cases for these tests. Most recently, on September 26, 2005, we published a notice extending selection of cases for the tests until no later than September 30, 2006 (70 FR 56204). We also stated that, if we decided to continue selection of cases for these tests beyond that date, we would publish another notice in the Federal Register. We have decided to extend selection of cases for two features of the prototype process (single decisionmaker and elimination of the reconsideration step), and the separate test of single decisionmaker beyond September 30, 2006. We expect that our selection of cases for these tests will end on or before September 30, 2009.

This extension also applies to the locations in the State of New York that we added to the prototype test in a notice published in the Federal Register on December 26, 2000 (65 FR 81553).

Dated: August 3, 2006.
Linda S. McMahon,
Deputy Commissioner for Operations.

[FR Doc. E6-13102 Filed 8-9-06; 8:45 am]

BILLING CODE 4191-02-P